DEPARTMENT OF TREASURY

[Docket No. TREAS-DO-2024-0003]

RIN 1505-AC84

Privacy Act of 1974; Correction

AGENCY: Internal Revenue Service, Department of Treasury.

ACTION: Notice; correction.

SUMMARY: The Internal Revenue Service (IRS) is correcting a new System of Record Notice (SORN), “Insider Risk Management Records. Treasury/IRS 34.018” that appeared in the Federal Register on May 3, 2024. The IRS would like to include corrections to the CATEGORIES OF RECORDS IN THE SYSTEM section to include Potential Risk Identifiers (PRIs). Also, correct the specific exemptions reference to the EXEMPTIONS PROMULGATED FOR THE SYSTEM section to align correctly with the Notice of Proposed Rulemaking.

DATES: Effective June 3, 2024.

FOR FURTHER INFORMATION CONTACT: Chief Risk Officer, Internal Revenue Service, Office of the Chief Risk Officer, Enterprise Risk Management, 1111 Constitution Ave. NW, Washington, DC 20224-0002; enterprise.risk.mgt@irs.gov, telephone: (801) 612-4815.

SUPPLEMENTARY INFORMATION: The IRS would like to include records titled Potential Risk Indicators (PRIs) to the CATEGORIES OF RECORDS IN THE SYSTEM section. PRIs are a more descriptive record category which refers to data meeting certain specifications that are collected prior to analysis. The descriptive terms once observed will become a record referred to as PRIs. Adding this record will provide further clarity to the types of records maintained. In addition, the notice contained an incorrect exemption reference within the EXEMPTIONS PROMULGATED FOR THE SYSTEM section of the SORN. The incorrect exemption reference was (d); the correct exemption reference is (d)(1)-(4). These sections of the Privacy Act align with the Notice of Proposed Rulemaking for part 1, subpart C of title 31 of the Code of Federal Regulations which is the subject of FR Doc. 2024-09696.

As indicated in the preamble, the IRS is correcting the May 3, 2024, publication of the Notice of a New Systems of Records, which was the subject of FR Doc. 2024-09698 published at 89 FR 36851.

Insider Risk Management Records. Treasury/IRS 34.018 [Corrected]

1. On page 36852, in the third column, the text under the heading “CATEGORIES OF RECORDS IN THE SYSTEM:” is corrected by adding “Potential Risk Indicators” before “information potentially relevant to conducting insider risk management.”

2. On page 36853, in the third column, the text under the heading “EXEMPTIONS PROMULGATED FOR THE SYSTEM:” is corrected by removing the “s” in the word “haves” and by adding (1)-(4) after (d).

Ryan Law,
Deputy Assistant Secretary Privacy, Transparency, and Record, U.S. Department of the Treasury.

[FR Doc. 2024-12256 Filed 6-4-24; 8:45 am]

BILLING CODE 4810-AK-P